SECURITIES AND EXCHANGE COMMISSION

[Release No. 34-81747; File No. SR-NYSEArca-2017-06]

Self-Regulatory Organizations; NYSE Arca, Inc.; Notice of Withdrawal of a Proposed Rule Change, as Modified by Amendment No. 2, Relating to the Listing and Trading of Shares of the Bitcoin Investment Trust Under NYSE Arca Equities Rule 8.201

September 28, 2017.

On January 25, 2017, NYSE Arca, Inc. (“Exchange”) filed with the Securities and Exchange Commission (“Commission”), pursuant to Section 19(b)(1) of the Securities Exchange Act of 1934 (“Act”) ¹ and Rule 19b-4 thereunder,² a proposed rule change to list and trade shares of the Bitcoin Investment Trust under NYSE Arca Equities Rule 8.201. The proposed rule change was published for comment in the Federal Register on February 9, 2017.³

¹ 15 U.S.C. 78s(b)(1).

² 17 CFR 240.19b-4.

³ See Securities Exchange Act Release No. 79955 (Feb. 3, 2017), 82 FR 10086 (Feb. 9, 2017).

On March 22, 2017, pursuant to Section 19(b)(2) of the Act,⁴ the Commission designated a longer period within which to approve the proposed rule change, disapprove the proposed rule change, or institute proceedings to determine whether to approve or disapprove the proposed rule change.⁵ On April 6, 2017, the Exchange filed Amendment No. 1 to the proposed rule change. On April 27, 2017, the Commission published notice of Amendment No. 1 and instituted proceedings to determine whether to approve or disapprove the proposed rule change, as modified by Amendment No. 1.⁶ On May 11, 2017, the Exchange filed Amendment No. 2 to the proposed rule change, and on May 25, 2017, the Commission published notice of Amendment No. 2.⁷ On July 25, 2017, the Commission designated a longer period for Commission action on the proposed rule change.⁸ The Commission has received eighteen comment letters on the proposed rule change.⁹

⁴ 15 U.S.C. 78s(b)(2).

⁵ See Securities Exchange Act Release No. 80297 (Mar. 22, 2017), 82 FR 15408 (Mar. 28, 2017).

⁶ See Securities Exchange Act Release No. 80502 (Apr. 21, 2017), 82 FR 19398 (Apr. 27, 2017).

⁷ See Securities Exchange Act Release No. 80729 (May 19, 2017), 82 FR 24185 (May 25, 2017).

⁸ See Securities Exchange Act Release No. 81201 (July 25, 2017), 82 FR 33938 (July 31, 2017). The Commission designated October 7, 2017, as the date by which the Commission shall either approve or disapprove the proposed rule change.

⁹ See Letters from Joseph Stephen White (Feb. 5, 2017); Anonymous (Feb. 8, 2017) (purportedly from Jeffrey Wilcke, Ethereum Foundation); Mark T. Williams, Finance Professor, Boston University (Mar. 13, 2017); Clark Haley (Apr. 15, 2017); Daniel Warsh, Managing Member, Warberg Asset Management (Jun. 8, 2017); Murray Stahl, Chairman, CEO, CIO, and Hugh Ross, COO, Horizon Kinetics LLC (Jun. 12, 2017); Tim Lewkow, Founder, Wealth Manager (Jun. 14, 2017); Jerry Brito, Executive Director, Coin Center (Jun. 20, 2017); Sheri Kaiserman, Managing Director, Wedbush Securities (Jun. 20, 2017); Douglas M. Yones, Head of Exchange Traded Products, New York Stock Exchange, and Elizabeth King, General Counsel, New York Stock Exchange (Jun. 28, 2017); Arthur Levitt (Jul. 5, 2017); Jeffrey McCarthy, CEO, Exchange Traded Funds, The Bank of New York Mellon (Jul. 7, 2017); Ari Paul, CIO and Managing Partner, Block Tower Capital (Jul. 9, 2017); Dr. James Smith, CEO, Elliptic (Jul. 18, 2017); Prof. Campbell R. Harvey, Fuqua School of Business, Duke University, et al. (Aug. 28, 2017); James J. Angel, Associate Professor of Finance, McDonough School of Business, Georgetown University (Sept. 11, 2017); Matt Corallo (Sept. 11, 2017); Joseph A. Hall, Davis Polk & Wardwell LLP. All comments on the proposed rule change, as well as a copy of the presentation submitted in a meeting with the Commission's staff on July 7, 2017, are available on the Commission's Web site at: https://www.sec.gov/comments/sr-nysearca-2017-06/nysearca201706.htm.

On September 27, 2017, the Exchange withdrew the proposed rule change (SR-NYSEArca-2017-06), as modified by Amendment No. 2.

For the Commission, by the Division of Trading and Markets, pursuant to delegated authority.¹⁰
¹⁰ 17 CFR 200.30-3(a)(12).
Eduardo A. Aleman,
Assistant Secretary.

[FR Doc. 2017-21275 Filed 10-3-17; 8:45 am]

BILLING CODE 8011-01-P